Proclamation 9051 of October 31, 2013

National Diabetes Month, 2013

By the President of the United States of America

A Proclamation

With more than 25 million Americans living with a diabetes diagnosis, and many more going undiagnosed, diabetes affects people across our country and remains a pressing national health concern. During National Diabetes Month, we renew our dedication to combating this chronic, life-threatening illness by standing with those living with diabetes, honoring the professionals and advocates engaged in fighting diabetes, and working to raise awareness about prevention and treatment.

Diabetes can lead to serious complications, including heart disease, stroke, kidney failure, and blindness. Type 1 diabetes, often diagnosed in children, limits insulin production and its causes are not well defined. Type 2 diabetes, which accounts for more than 90 percent of diabetes cases, has been linked to older age and family history, although it is increasingly being diagnosed in younger Americans and is associated with obesity and inactivity. The risk is particularly high among African Americans, Hispanic Americans, American Indians, and some Asian Americans and Pacific Islanders. I encourage all Americans to talk to their health care provider about steps they can take to prevent or manage this disease.

With diabetes ranking among the leading causes of death in the United States, my Administration is committed to supporting Americans living with diabetes, investing in promising scientific research, advancing work toward improved treatment and care, and bolstering prevention efforts. Thanks to the Affordable Care Act, beginning in 2014, no American with diabetes can be denied health insurance based on their diagnosis, and in most plans, Americans at increased risk can access diabetes screenings at no cost to them. The National Diabetes Prevention Program engages private and public partners to help people with prediabetes adopt lifestyles that can prevent or delay Type 2 diabetes, and the National Diabetes Education Program focuses on delaying and preventing disease onset while also working to improve outcomes for those living with the disease.

With our next generation in mind, First Lady Michelle Obama's Let's Move! initiative has taken on the staggering rise in childhood obesity our Nation has seen over the past three decades, and Let's Move! is empowering families and communities to put children on a path to healthier futures. Obese children face an increased risk of adult obesity and all the health risks that come with it, including Type 2 diabetes. By connecting children with healthy, affordable food options and the opportunity to be active in their communities, Let's Move! is helping our sons and daughters reach a healthier, more promising tomorrow.

This month, as we remember those we have lost to diabetes and support those living with the illness, let us look to a day with fewer cases of diabetes, a firmer understanding of the disease, and better outcomes for all those affected. By continuing the important research, outreach, and care delivery we have already begun, we know we can get there.

NOW, THEREFORE, I, BARACK OBAMA, President of the United States of America, by virtue of the authority vested in me by the Constitution and the laws of the United States, do hereby proclaim November 2013 as National Diabetes Month. I call upon all Americans, school systems, government agencies, nonprofit organizations, health care providers, research institutions, and other interested groups to join in activities that raise diabetes awareness and help prevent, treat, and manage the disease.

IN WITNESS WHEREOF, I have hereunto set my hand this thirty-first day of October, in the year of our Lord two thousand thirteen, and of the Independence of the United States of America the two hundred and thirty-eighth.

[FR Doc. 2013-26673

Filed 11-4-13; 11:15 am]

Billing code 3295-F4